DEPARTMENT OF LABOR

Employment and Training Administration

Change of Physical Mailing Address

AGENCY: Employment and Training Administration, Department of Labor.

ACTION: Notice.

SUMMARY: The Employment and Training Administration (ETA) of the Department of Labor (DOL) is issuing this notice to announce that the Office of Foreign Labor Certification (OFLC) is changing the mailing address for its temporary programs, currently submitted to addresses in Chicago, IL August 29, 2025.

DATES: The new address announced in this notice is effective on August 29, 2025.

ADDRESSES: The new centralized mailing address: U.S. Department of Labor, Employment and Training Administration, Office of Foreign Labor Certification, 200 Constitution Avenue NW, Room N-5311, Washington, DC 20210. This address will be used both to receive documentary evidence for applications and to receive payments for H-2A certification invoices.

FOR FURTHER INFORMATION CONTACT: Brian Pasternak, Administrator, Office of Foreign Labor Certification, Employment and Training Administration, U.S. Department of Labor, 200 Constitution Avenue NW, Room N-5311, Washington, DC 20210, telephone (202) 693-8200 (this is not a toll-free number). For persons with a hearing or speech disability who need assistance to use the telephone system, please dial 711 to access telecommunications relay services.

SUPPLEMENTARY INFORMATION:

Background

The Secretary of Labor (Secretary) has unique responsibilities under the Immigration and Nationality Act (INA), which is delegated to OFLC through ETA, to provide employers with timely access to a qualified workforce while protecting the wages and working conditions of U.S. and foreign workers in their employment. OFLC receives applications from employers seeking permission to employ foreign workers on both a temporary and permanent basis and evaluates each application for compliance with the relevant statutory and regulatory requirements. Although the vast majority of OFLC applications requesting temporary labor certification are submitted and processed electronically, some employers submit applications, supplemental information, and remittances for fees assessed as a condition of granting H-2A labor certification through the United States Postal Service or commercial parcel delivery services (collectively “physical mail”).

Physical mail submitted to OFLC related to its temporary programs, including the H-2A temporary agricultural program, H-2B temporary non-agricultural program, CW-1 program for workers employed in the Commonwealth of the Northern Mariana Islands, D-1 program for performing longshore work at U.S. ports, and labor condition applications (LCA) or labor attestations for the E-3, H-1B, and H-1B1 visa classifications, is currently addressed to the National Processing Center (NPC) located in Chicago, IL. Specifically, physical mail for documents related to these temporary programs, when applicable, is currently addressed to the NPC's mailing address at: U.S. Department of Labor, Employment and Training Administration, Office of Foreign Labor Certification, Chicago National Processing Center, 11 W Quincy Court, Chicago, Illinois 60604. Physical mail associated with H-2A certification invoice payments is addressed and mailed to Chicago National Processing Center, Office of Foreign Labor Certification, U.S. Department of Labor, P.O. Box A3804, Chicago, IL 60690-A3804.

OFLC's expanded use of technology has allowed for the electronic filing and processing of employer applications within the Foreign Labor Application Gateway (FLAG) System (https://flag.dol.gov/) as well as electronic communications with employers and their authorized attorneys or agents, as applicable, throughout the application process. Full implementation of the FLAG System has significantly eliminated the need for physical processing centers and the frequency with which employers and their authorized attorneys or agents, as applicable, need to send physical mail in connection with the aforementioned temporary programs. The benefits associated with the FLAG system modernization initiative have allowed OFLC to consolidate all incoming physical mail into a single physical location. Accordingly, this Notice informs the public about a change of mailing address for physical mail currently sent to the NPC located in Chicago, IL.

New Mailing Address

Effective August 29, 2025, any physical mail sent to the NPC in Chicago must be submitted to the following new centralized mailing address: U.S. Department of Labor, Employment and Training Administration, Office of Foreign Labor Certification, 200 Constitution Avenue NW, Room N-5311, Washington, DC 20210. This address will be used both to receive documentary evidence for applications and to receive payments for H-2A certification invoices.

The correct new mailing address above must be used as of August 29, 2025. Any United States Postal Service mail addressed to the Chicago, IL NPC's prior mailing addresses will be forwarded by the U.S. Postal Service for a limited period of time, but OFLC will not consider such forwarded mail timely if the mail is postmarked after September 19, 2025. Courier services and other courier mail or parcel delivery services will no longer have the ability to deliver physical mail to the Chicago, IL NPC's former mailing addresses as of August 29, 2025 and OFLC will no longer have staff physically present at the prior address or access to the building. Failure to send mail to the new centralized mail receipt location identified in this Notice may result in processing delays and possibly denials if the information and documentation submitted by mail is not delivered as instructed and within the timeframe directed by OFLC.

Authority: 20 CFR 655.101(a), 655.2(a); 655.401; 655.501, 655.705(a).

Susan Frazier,
Acting Assistant Secretary for Employment and Training, Labor.

[FR Doc. 2025-12023 Filed 6-27-25; 8:45 am]

BILLING CODE 4510-FP-P